FEDERAL COMMUNICATIONS COMMISSION

[WT Docket No. 97-82; DA 00-1531]

Deadline for Final Ex Parte and Other Presentations on Proposed Revisions to Broadband Personal Communications Services (PCS) Rules Extended to July 17, 2000

AGENCY: Federal Communications Commission.

ACTION: Notice.

SUMMARY: This document extends the period for final ex parte and other presentations on issues raised in this proceeding pertaining to proposed revisions to portions of the broadband Personal Communications Services C and F block rules.

DATES: Final ex parte presentations are due July 17, 2000.

FOR FURTHER INFORMATION CONTACT: Audrey Bashkin, Attorney, Auctions and Industry Analysis Division, Wireless Telecommunications Bureau, at (202) 418-0660.

SUPPLEMENTARY INFORMATION: This a summary of a public notice, WT Docket No. 97-82, DA 00-1531, released July 7, 2000. The complete text of the public notice is available for inspection and copying during normal business hours in the FCC Reference Information Center, 445 12th Street, S.W., Room CY-A257, Washington, D.C. 20554, and also may be purchased from the Commission's copy contractor, International Transcription Services, Inc., (ITS, Inc.), 1231 20th Street, N.W., Washington D.C. 20036, (202) 857-3800. It is also available on the Commission's website at http://www.fcc.gov/wtb/auctions.

1. On June 7, 2000, the Commission released a Further Notice of Proposed Rulemaking (“FNPRM”), 65 FR 37092 (June 13, 2000), in the above-referenced proceeding. The FNPRM seeks comment on proposed revisions to portions of the broadband Personal Communications Services (“PCS”) C and F block rules. The FPRM established comment and reply comment deadlines for June 22, 2000 and June 30, 2000, respectively. The FNPRM also established 7 p.m., July 12, 2000 as the time and date after which ex parte and other presentations would be prohibited.

2. In order to provide interested parties additional time to make ex parte presentations, the period for final ex parte and other presentations on issues raised in the FNPRM is extended until 7 p.m. on July 17, 2000.

3. Pursuant to § 1.1200(a) of the Commission's rules, presentations on issues in the FNPRM will be prohibited after 7 p.m., July 17, 2000. 47 CFR 1.1200(a). In all other respects, parties are required to follow the procedures previously outlined in the FNPRM.

Federal Communications Commission.
Louis J. Sigalos,
Deputy Chief, Auctions and Industry Analysis Division.

[FR Doc. 00-17671 Filed 7-12-00; 8:45 am]

BILLING CODE 6712-01-P